DEPARTMENT OF LABOR

Employment and Training Administration

[TA-W-56,838]

Alden Manufacturing, Co. Chicago, IL; Notice of Termination of Investigation

Pursuant to Section 221 of the Trade Act of 1974, as amended, an investigation was initiated on October 14, 2003 in response to a petition filed on by a company official on behalf of workers of Alden Manufacturing, Co., Chicago, Illinois.

The petitioner has requested that the petition be withdrawn. Consequently, the investigation has been terminated.

Signed at Washington, DC this 30th day of March 2005.
Richard Church,
Certifying Officer, Division of Trade Adjustment Assistance.

[FR Doc. E5-1936 Filed 4-22-05; 8:45 am]

BILLING CODE 4510-30-P